DEPARTMENT OF ENERGY

Federal Energy Regulatory Commission

Combined Notice of Filings #1

Take notice that the Commission received the following electric rate filings:

Docket Numbers: ER11-3939-000.

Applicants: Wapsipinicon Wind Project, LLC.

Description: Wapsipinicon Wind Project, LLC submits tariff filing per 35: Wapsipinico Seller Category Compliance Filing to be effective 6/30/2011.

Filed Date: 06/30/2011.

Accession Number: 20110630-5000.

Comment Date: 5 p.m. Eastern Time on Thursday, July 21, 2011.

Docket Numbers: ER11-3940-000.

Applicants: Waterside Power, LLC.

Description: Waterside Power, LLC submits tariff filing per 35: Market-Based Rate Tariff Compliance Filing to be effective 9/28/2010 under ER11-3940.

Filed Date: 06/30/2011.

Accession Number: 20110630-5002.

Comment Date: 5 p.m. Eastern Time on Thursday, July 21, 2011.

Docket Numbers: ER11-3941-000.

Applicants: Granite Reliable Power, LLC.

Description: Granite Reliable Power, LLC submits tariff filing per 35.12: Granite MBR Petition to be effective 6/30/2011 under ER11-3941.

Filed Date: 06/30/2011.

Accession Number: 20110630-5004.

Comment Date: 5 p.m. Eastern Time on Thursday, July 21, 2011.

Docket Numbers: ER11-3942-000.

Applicants: Brookfield Energy Marketing LP.

Description: Brookfield Energy Marketing LP submits tariff filing per 35: Brookfield Energy Marketing LP Revised MBR Tariff to be effective 7/1/2011 under ER11-3942.

Filed Date: 06/30/2011.

Accession Number: 20110630-5021.

Comment Date: 5 p.m. Eastern Time on Thursday, July 21, 2011.

Docket Numbers: ER11-3943-000.

Applicants: New England Power Pool Participants Committee.

Description: New England Power Pool Participants Committee submits tariff filing per 35.13(a)(2)(iii: Jul 2011 Membership Filing to be effective 6/1/2011 under ER11-3943.

Filed Date: 06/30/2011.

Accession Number: 20110630-5046.

Comment Date: 5 p.m. Eastern Time on Thursday, July 21, 2011.

Docket Numbers: ER11-3945-000.

Applicants: Liberty Electric Power, LLC.

Description: Liberty Electric Power, LLC submits tariff filing per 35.15: Cancellation of Record ID to be effective 8/28/2010 under ER11-3945.

Filed Date: 06/30/2011.

Accession Number: 20110630-5056.

Comment Date: 5 p.m. Eastern Time on Thursday, July 21, 2011.

Docket Numbers: ER11-3946-000.

Applicants: CPV Liberty, LLC.

Description: CPV Liberty, LLC submits tariff filing per 35.15: Cancellation of Record ID to be effective 8/30/2010 under ER11-3946.

Filed Date: 06/30/2011.

Accession Number: 20110630-5057.

Comment Date: 5 p.m. Eastern Time on Thursday, July 21, 2011.

Docket Numbers: ER11-3947-000.

Applicants: The United Illuminating Company.

Description: The United Illuminating Company submits tariff filing per 35.13(a)(1): Notices of Termination and New Localized Costs Sharing Agreements to be effective 6/1/2011.

Filed Date: 06/30/2011.

Accession Number: 20110630-5060.

Comment Date: 5 p.m. Eastern Time on Thursday, July 21, 2011.

Docket Numbers: ER11-3948-000.

Applicants: Southwest Power Pool, Inc.

Description: Southwest Power Pool, Inc. submits tariff filing per 35.13(a)(2)(iii: 2023R1 Midwest Energy, Inc. NITSA NOA to be effective 6/1/2011.

Filed Date: 06/30/2011.

Accession Number: 20110630-5061.

Comment Date: 5 p.m. Eastern Time on Thursday, July 21, 2011.

Docket Numbers: ER11-3949-000.

Applicants: New York Independent System Operator, Inc.

Description: New York Independent System Operator, Inc. submits tariff filing per 35: Compliance Filing Order No. 741—Credit NOPR to be effective 10/1/2011.

Filed Date: 06/30/2011.

Accession Number: 20110630-5104.

Comment Date: 5 p.m. Eastern Time on Thursday, July 21, 2011.

Docket Numbers: ER11-3950-000.

Applicants: AES Laurel Mountain, LLC.

Description: AES Laurel Mountain, LLC submits tariff filing per 35: AES Laurel Mountain Compliance Filing to be effective 7/1/2011 under ER11-3950.

Filed Date: 06/30/2011.

Accession Number: 20110630-5106.

Comment Date: 5 p.m. Eastern Time on Thursday, July 21, 2011.

Docket Numbers: ER11-3951-000.

Applicants: New York Independent System Operator, Inc.

Description: New York Independent System Operator, Inc. submits tariff filing per 35: Compliance Filing Order No. 741—Credit NOPR—ISO Agreement to be effective 10/1/2011.

Filed Date: 06/30/2011.

Accession Number: 20110630-5108.

Comment Date: 5 p.m. Eastern Time on Thursday, July 21, 2011.

Docket Numbers: ER11-3952-000.

Applicants: Southwest Power Pool, Inc.

Description: Southwest Power Pool, Inc. submits tariff filing per 35.13(a)(2)(iii: 2028R1 Sunflower Electric Power Corporation NITSA NOA to be effective 6/1/2011.

Filed Date: 06/30/2011.

Accession Number: 20110630-5119.

Comment Date: 5 p.m. Eastern Time on Thursday, July 21, 2011.

Docket Numbers: ER11-3953-000.

Applicants: ISO New England Inc., New England Power Pool Participants Committee.

Description: ISO New England Inc. submits tariff filing per 35: Rev. to ISO-NE's Tariff in Compliance with Order Nos 741 and 741-A to be effective 10/1/2011.

Filed Date: 06/30/2011.

Accession Number: 20110630-5121.

Comment Date: 5 p.m. Eastern Time on Thursday, July 21, 2011.

Docket Numbers: ER11-3954-000.

Applicants: Southwestern Public Service Company.

Description: Southwestern Public Service Company submits tariff filing per 35.13(a)(2)(iii: 2011-06-30_LEC County Line SS_605-SPS to be effective 7/1/2011.

Filed Date: 06/30/2011.

Accession Number: 20110630-5139.

Comment Date: 5 p.m. Eastern Time on Thursday, July 21, 2011.

Docket Numbers: ER11-3955-000.

Applicants: Upper Peninsula Power Company.

Description: Upper Peninsula Power Company submits tariff filing per 35.13(a)(2)(iii: MAA between WPPI, City of Neguanee and UPPCO to be effective 9/1/2011.

Filed Date: 06/30/2011.

Accession Number: 20110630-5142.

Comment Date: 5 p.m. Eastern Time on Thursday, July 21, 2011.

Docket Numbers: ER11-3956-000.

Applicants: PJM Interconnection, LLC.

Description: PJM Interconnection, LLC submits tariff filing per 35.13(a)(2)(iii: Original Service Agreement Nos. 2812 and 2813 to be effective 6/1/2011.

Filed Date: 06/30/2011.

Accession Number: 20110630-5150.

Comment Date: 5 p.m. Eastern Time on Thursday, July 21, 2011.

Docket Numbers: ER11-3957-000.

Applicants: Consumers Energy Company.

Description: Consumers Energy Company submits tariff filing per 35.13(a)(2)(iii: Facilities Agreement with the Michigan Power Limited Partnership, Rate Schedule to be effective 8/29/2011.

Filed Date: 06/30/2011.

Accession Number: 20110630-5151.

Comment Date: 5 p.m. Eastern Time on Thursday, July 21, 2011.

Docket Numbers: ER11-3958-000.

Applicants: Southwest Power Pool, Inc.

Description: Southwest Power Pool, Inc. submits tariff filing per 35.13(a)(2)(iii: Ministerial Filing In Support of Order 741 Compliance to be effective 10/1/2011.

Filed Date: 06/30/2011.

Accession Number: 20110630-5152.

Comment Date: 5 p.m. Eastern Time on Thursday, July 21, 2011.

Docket Numbers: ER11-3959-000.

Applicants: Post Rock Wind Power Project, LLC

Description: Post Rock Wind Power Project, LLC submits tariff filing per 35.12: Initial Market-Based Rate Application to be effective 8/29/2011 under ER11-3959.

Filed Date: 06/30/2011.

Accession Number: 20110630-5153.

Comment Date: 5 p.m. Eastern Time on Thursday, July 21, 2011.

Docket Numbers: ER11-3960-000.

Applicants: J. Aron & Company.

Description: J. Aron & Company submits tariff filing per 35.37: J. Aron & Company 2nd Revised MBR to be effective 7/1/2011.

Filed Date: 06/30/2011.

Accession Number: 20110630-5158.

Comment Date: 5 p.m. Eastern Time on Thursday, July 21, 2011.

Docket Numbers: ER11-3961-000.

Applicants: Southwestern Public Service Company.

Description: Southwestern Public Service Company submits tariff filing per 35.13(a)(2)(iii: 2011-6-30_SPS CVEC-Tran-To-Load_648-SPS to be effective 7/1/2011.

Filed Date: 06/30/2011.

Accession Number: 20110630-5183.

Comment Date: 5 p.m. Eastern Time on Thursday, July 21, 2011.

Docket Numbers: ER11-3962-000.

Applicants: City of Banning, California.

Description: City of Banning, California submits tariff filing per 35.13(a)(1): City of Banning, CA TO Tariff and TRR Revisions to be effective 7/1/2011.

Filed Date: 06/30/2011.

Accession Number: 20110630-5186.

Comment Date: 5 p.m. Eastern Time on Thursday, July 21, 2011.

Docket Numbers: ER11-3963-000.

Applicants: Bruce Power Inc.

Description: Bruce Power Inc. submits tariff filing per 35.37: Bruce Power Inc. Triennial and First Revised MBR to be effective 7/1/2011.

Filed Date: 06/30/2011.

Accession Number: 20110630-5194.

Comment Date: 5 p.m. Eastern Time on Monday, August 29, 2011.

Docket Numbers: ER11-3964-000.

Applicants: Duke Energy Fayette II, LLC.

Description: Duke Energy Fayette II, LLC submits tariff filing per 35.37: Triennial Filing to be effective 1/9/2011.

Filed Date: 06/30/2011.

Accession Number: 20110630-5211.

Comment Date: 5 p.m. Eastern Time on Monday, August 29, 2011.

Docket Numbers: ER11-3965-000.

Applicants: Wisconsin River Power Company.

Description: Wisconsin River Power Company submits tariff filing per 35.13(a)(2)(iii: Combustion Turbine Power Purchase Contract to be effective 10/1/2011.

Filed Date: 06/30/2011.

Accession Number: 20110630-5216.

Comment Date: 5 p.m. Eastern Time on Thursday, July 21, 2011.

Docket Numbers: ER11-3966-000.

Applicants: Duke Energy Hanging Rock II, LLC.

Description: Duke Energy Hanging Rock II, LLC submits tariff filing per 35.37: Triennial Filing to be effective 1/9/2011.

Filed Date: 06/30/2011.

Accession Number: 20110630-5218.

Comment Date: 5 p.m. Eastern Time on Monday, August 29, 2011.

Docket Numbers: ER11-3967-000.

Applicants: Southwest Power Pool, Inc.

Description: Southwest Power Pool, Inc. submits tariff filing per 35: Order 741 Compliance Filing—Attachment X to be effective 10/1/2011.

Filed Date: 06/30/2011.

Accession Number: 20110630-5220.

Comment Date: 5 p.m. Eastern Time on Thursday, July 21, 2011.

Docket Numbers: ER11-3968-000.

Applicants: Duke Energy Lee II, LLC.

Description: Duke Energy Lee II, LLC submits tariff filing per 35.37: Triennial Filing to be effective 1/9/2011.

Filed Date: 06/30/2011.

Accession Number: 20110630-5222.

Comment Date: 5 p.m. Eastern Time on Monday, August 29, 2011.

Docket Numbers: ER11-3969-000.

Applicants: Duke Energy Washington II, LLC.

Description: Duke Energy Washington II, LLC submits tariff filing per 35.37: Triennial Filing to be effective 1/9/2011.

Filed Date: 06/30/2011.

Accession Number: 20110630-5224.

Comment Date: 5 p.m. Eastern Time on Monday, August 29, 2011.

Docket Numbers: ER11-3970-000.

Applicants: Midwest Independent Transmission System.

Description: Midwest Independent Transmission System Operator, Inc. submits tariff filing per 35: Credit Reform Compliance Filing to be effective 10/1/2011.

Filed Date: 06/30/2011.

Accession Number: 20110630-5226.

Comment Date: 5 p.m. Eastern Time on Thursday, July 21, 2011.

Docket Numbers: ER11-3971-000.

Applicants: Alcoa Power Generating Inc.

Description: Alcoa Power Generating Inc. submits tariff filing per 35.1: APGI—CRT Long Sault Transmission Service Agreement to be effective 7/1/2011.

Filed Date: 06/30/2011.

Accession Number: 20110630-5228.

Comment Date: 5 p.m. Eastern Time on Thursday, July 21, 2011.

Docket Numbers: ER11-3972-000.

Applicants: PJM Interconnection, LLC.

Description: PJM Interconnection, LLC submits tariff filing per 35: Compliance Filing per Order Nos. 741 and 741-A to be effective 10/1/2011.

Filed Date: 06/30/2011.

Accession Number: 20110630-5229.

Comment Date: 5 p.m. Eastern Time on Thursday, July 21, 2011.

Docket Numbers: ER11-3973-000.

Applicants: California Independent System Operator Corporation.

Description: California Independent System Operator Corporation submits tariff filing per 35: 2011-06-30 CAISO Credit Reforms Compliance Filing to be effective 10/1/2011.

Filed Date: 06/30/2011.

Accession Number: 20110630-5230.

Comment Date: 5 p.m. Eastern Time on Thursday, July 21, 2011.

Docket Numbers: ER11-3974-000.

Applicants: Fowler Ridge III Wind Farm LLC.

Description: Fowler Ridge III Wind Farm LLC submits tariff filing per 35.13(a)(2)(iii: Fowler Ridge III Wind Farm LLC Tariff Update to be effective 8/29/2011.

Filed Date: 06/30/2011.

Accession Number: 20110630-5238.

Comment Date: 5 p.m. Eastern Time on Thursday, July 21, 2011.

Docket Numbers: ER11-3975-000.

Applicants: Fowler Ridge II Wind Farm LLC.

Description: Fowler Ridge II Wind Farm LLC submits tariff filing per 35.13(a)(2)(iii: Fowler Ridge II Wind Farm LLC Tariff Update to be effective 8/29/2011.

Filed Date: 06/30/2011.

Accession Number: 20110630-5240.

Comment Date: 5 p.m. Eastern Time on Thursday, July 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: July 1, 2011.
Nathaniel J. Davis, Sr.,
Deputy Secretary.

[FR Doc. 2011-17836 Filed 7-14-11; 8:45 am]

BILLING CODE 6717-01-P